DEPARTMENT OF COMMERCE

Foreign-Trade Zones Board

(Dockets 62-2005 and 63-2005)

Foreign-Trade Zone 61-- San Juan, Puerto Rico, Expansion of Facilities-- Subzone 61D, 61E, Merck Sharpe & Dohme Quimica De Puerto Rico, Inc., (Pharmaceutical Products), Arecibo and Barceloneta, Puerto Rico

Applications have been submitted to the Foreign-Trade Zones Board (the Board) by the Puerto Rico Trade & Export Company, grantee of FTZ 61, requesting to expand the subzones at the Merck, Sharp & Dohme Quimica de Puerto Rico, Inc. (MSDQ), facilities in Arecibo (Subzone 61D, Docket 62-2005), and Barceloneta (Subzone 61E, Docket 63-2005), Puerto Rico. The applications were submitted pursuant to the Foreign-Trade Zones Act, as amended (19 U.S.C. 81a-81u), and the regulations of the Board. They were formally filed on December 7, 2005.

Subzone 61D was approved by the Board on May 12, 1995 at a single site (3 bldgs./286,000 sq. ft. on 38 acres) located at Road PR-2, Km. 60, in the municipality of Arecibo, Puerto Rico, with authority granted for the manufacture of finished pharmaceuticals (Board Order 741, 60 FR 27272, 5/23/95), and expanded on 11/9/00 (Board Order 1125, 65 FR 69731, 11/20/00). MSDQ is now proposing to expand production capacity under FTZ procedures by adding acreage and 1 building and expanding the existing buildings. The expanded subzone would then include 4 buildings consisting of 334,778 sq. ft. on 53 acres.

Subzone 61E was approved by the board on May 12, 1995 at a single site (92 bldgs./504,756 sq. ft. on 221 acres) located at Road PR-2, Km. 57, in the municipality of Barceloneta, Puerto Rico, with authority granted for the manufacture of pharmaceutical bulk chemicals and intermediates used in Merck's human and animal health products and finished animal health and agricultural chemical products for its AgVet Division (agricultural/veterinary) (Board Order 742, 60 FR 27272, 5/23/95), and expanded on 11/9/00 (Board Order 1126, 65 FR 69731, 11/20/00). MSDQ is now proposing to expand production capacity under FTZ procedures by adding acreage and 6 buildings and expanding an existing building. The expanded subzone would then include 98 buildings consisting of 598,415 sq. ft. on 257 acres.

In accordance with the Board's regulations, a member of the FTZ staff has been designated examiner to investigate the applications and report to the Board.

Public comment on the applications is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is February 13, 2006. Rebuttal comments in response to material submitted during the foregoing period may be submitted during the subsequent 15-day period (to February 28, 2006).

A copy of the applications and accompanying exhibits will be available during this time for public inspection at address Number 1 listed above, and at the U.S. Department of Commerce, Export Assistance Center, 525 F.D. Roosevelt Ave., Suite 905, San Juan, PR 00918.

Dated: December 8, 2005.
Dennis Puccinelli,
Executive Secretary.

[FR Doc. 05-24084 Filed 12-14-05; 8:45 am]

BILLING CODE 3510-DS-S